DEPARTMENT OF DEFENSE

Office of Secretary of Defense

[DOD-2007-OS-0012]

Privacy Act of 1974; Systems of Records

AGENCY: Defense Finance and Accounting Service.

ACTION: Notice To Add a New System of Records.

SUMMARY: The Defense Finance and Accounting Service (DFAS) is proposing to add a system of records notice to its inventory of record systems subject to the Privacy Act of 1974, (5 U.S.C. 552a), as amended.

DATES: This action will be effective without further notice on March 29, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on February 16, 2007, to the House Committee on Government Reform, the Senate Committee on Government Affairs, and the Office of Management and budget (OMB) pursuant to paragraph 4c of Appendix I to OMB Circular No. A-130, “Federal Agency Responsibilities for Maintaining Records about Individuals,” dated December 12, 2000, 65 FR 239.

Dated: February 20, 2007.
C.R. Choate,
Alternate OSD Federal Register Liaison Officer, Department of Defense.

T7335a

System name:

Automated Time Attendance and Production System (ATAAPS).

System location:

Defense Information Systems Agency (DISA), Defense Enterprise Computing Center (DECC), CDS13, P. O. Box 20012, St. Louis, Missouri 63120-0012.

Categories of individuals covered by the system:

DoD civilian employees.

Categories of records in the system:

Social Security Numbers (SSN), user name, time and attendance, leave balances, labor-reporting records that include leave, overtime, and compensatory time.

Authority for the maintenance of the system:

5 U.S.C. 301; 5 U.S.C. Chapters 53, 55, 61 and 63; 31 U.S.C. Chapter 35; DoD Financial Management Regulation (DoDFMR) 7000.14-R, Vol. 8, Chapter 5; and E.O. 9397(SSN).

Purpose(s):

To support the core financial requirements for Defense Finance and Accounting Service (DFAS), as well as provide civilian time and attendance services for the Department of Defense (DoD) Components located worldwide. This system will capture time and attendance, labor and production data for input to payroll and accounting systems. It will also provide the user a single, consolidated input method for reporting both time and attendance and labor information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” published at the beginning of the DFAS compilation of systems of records notices also apply to this system.

Policies and practices for storing, retrieving, accessing, retaining, and disposing of records in the system:

Storage:

Electronic storage media.

Retrievability:

Name, Social Security Number (SSN), or other user identification number.

Safeguards:

Records are stored in office buildings protected by guards, controlled screening, use of visitor registers, electronic access, and/or locks. Access to records is limited to individuals who are properly screened and cleared on a need-to-know basis in the performance of their official duties. Passwords and digital signatures are used to control access to the systems data, and procedures are in place to deter and detect browsing and unauthorized access. Physical and electronic access are limited to persons responsible for servicing and authorized to use the record system.

Retention and disposal:

Records are considered temporary in nature and cutoff at the end of each payroll year. The records are then destroyed after GAO audit or when 6 years old, whichever is sooner. Records stored on electronic media are destroyed by degaussing and hardcopy output products are destroyed by shredding, burning, or pulping.

System manager(s) and address:

Defense Finance and Accounting Service—Pensacola, ATAAPS System Manager, Civilian Pay Systems Management Directorate, 250 Raby Avenue, Pensacola, FL 32509-5128.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's full name, Social Security Number (SSN), current address, and telephone number.

Record access procedures:

Individuals seeking access to information about themselves contained in this system of records should address written inquiries to the Defense Finance and Accounting Service, Freedom of Information/Privacy Act Program Manager, Corporate Communications and Legislative Liaison, 6760 E. Irvington Place, Denver, CO 80279-8000.

Requests should contain individual's full name, Social Security Number (SSN), current address, and telephone number.

Contesting record procedures:

The DFAS rules for accessing records, for contesting contents and appealing initial agency determinations are published in DFAS Regulation 5400.11-R; 32 CFR part 324; or may be obtained from the Freedom of Information/Privacy Act Program Manager, Corporate Communications and Legislative Liaison, 6760 E. Irvington Place, Denver, CO 80279-8000.

Record source categories:

From the individual and DoD Components.

Exemptions claimed for the system:

None.

[FR Doc. E7-3301 Filed 2-26-07; 8:45 am]

BILLING CODE 5001-06-P